DEPARTMENT OF ENERGY

Federal Energy Regulatory Commission

[Docket No. IC24-16-000]

Commission Information Collection Activities (Ferc-725y); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-725Y, Mandatory Reliability Standard (Personnel Performance, Training, and Qualifications).

DATES: Comments on the collection of information are due September 23, 2024.

ADDRESSES: You may submit copies of your comments (identified by Docket No. IC24-16-000) by one of the following methods:

Electronic filing through https://www.ferc.gov, is preferred.

• Electronic Filing: Documents must be filed in acceptable native applications and print-to-PDF, not in scanned or picture format.

• For those unable to file electronically, comments may be filed by USPS mail or by other delivery methods:

○ Mail via U.S. Postal Service Only: Federal Energy Regulatory Commission, Secretary of the Commission, 888 First Street NE, Washington, DC 20426.

○ All other delivery services: Federal Energy Regulatory Commission, Office of the Secretary, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Jean Sonneman may be reached by email at DataClearance@FERC.gov, telephone at (202) 502-6362.

SUPPLEMENTARY INFORMATION:

Title: FERC-725Y, Mandatory Reliability Standard (Personnel Performance, Training, and Qualifications).

OMB Control No.: 1902-0279.

Type of Request: Three-year extension of the FERC-725Y information collection requirements with no changes to the reporting requirements.

Abstract: The FERC-725Y information collection is intended to help ensure the safe and reliable operation of the interconnected grid through the retention of suitably trained and qualified personnel in positions that can impact the reliable operation of the Bulk-Power System. The Commission uses the FERC-725Y to implement the Congressional mandate of the Energy Policy Act of 2005 to develop mandatory and enforceable Reliability Standards to better ensure the reliability of the nation's Bulk-Power System. FERC-725Y ensures that personnel performing or supporting real-time operations on the Bulk Electric System (BES) are trained using a systematic approach. The Reliability Standard requires entities to maintain records subject to review by the Commission and North American Electric Reliability Corporation (NERC) to ensure compliance with the Reliability Standard.

Reliability Standard PER-003-2 purpose is to ensure that System Operators performing the reliability-related tasks of the Reliability Coordinator, Balancing Authority and Transmission Operator are certified through the NERC System Operator Certification Program when filling a Realtime operating position responsible for control of the Bulk Electric System.

• R1. Each Reliability Coordinator shall staff its Real-time operating positions performing Reliability Coordinator reliability-related tasks with System Operators who have demonstrated minimum competency in the areas listed by obtaining and maintaining a valid NERC Reliability Operator certificate.

• R2. Each Transmission Operator shall staff its Real-time operating positions performing Transmission Operator reliability-related tasks with System Operators who have demonstrated minimum competency in the areas listed by obtaining and maintaining one of the following valid NERC certificates.

• R3. Each Balancing Authority shall staff its Real-time operating positions performing Balancing Authority reliability-related tasks with System Operators who have demonstrated minimum competency in the areas listed by obtaining and maintaining one of the following valid NERC certificates.

Reliability Standard PER-005-2 requires entities to maintain records subject to review by the Commission and NERC to ensure compliance with the Reliability Standard. This Reliability Standard contains of six Requirements:

• R1 requires reliability coordinators, balancing authorities, and transmission operators to develop and implement a training program for system operators.

• R2 requires transmission owners to develop and implement a training program for system operators.

• R3 requires reliability coordinators, balancing authorities, transmission operators and transmission owners to verify the capabilities of their identified personnel.

• R4 requires reliability coordinators, balancing authorities, transmission operators and transmission owners to provide those personnel with emergency operations training using simulation technology.

• R5 requires reliability coordinators, balancing authorities, and transmission operators develop and implement training for system operators whose job functions can impact BES real-time reliability tasks.

• R6 requires applicable generator operators to develop and implement training for certain of their dispatch personnel at a centrally located dispatch center.

Reliability Standard PER-006-1 ensures that personnel are trained on specific topics essential to reliability to perform or support Real-Time operations of the Bulk Electric System.

• R1 identifies generator operator plant personnel responsible for Real-time control and carrying out Operating instructions are trained on the operational functionality of Protection Systems and Remedial Action Schemes that affect the output of generating facility(ies) it operates.

Type of Respondents: Transmission owners and generator owners.

Estimate of Annual Burden ¹: Our estimate below regarding the number of respondents is based on the NERC compliance registry as of April 16, 2024. In general, the number of respondents has increased from previous renewal as each entity may have multiple responsibilities under these standards and those responsibilities are counted separately.

¹ Burden is defined as the total time, effort, or financial resources expended by persons to generate, maintain, retain, or disclose or provide information to or for a federal agency. For further explanation of what is included in the information collection burden, reference 5 Code of Federal Regulations 1320.3.

When the original PER-003-0 was approved in Order No. 693 the associated manhours were part of the 83 NERC Reliability Standards approved at one time.² In the two revisions done PER-003-1 and PER-003-2 it was determined at that there was no change in burden specific to PER-003. To increase clarity, manhours associated with the original PER-003-0 are being moved from the 725A collection and being added into the 725Y collection. The next update to 725A (2024) will reflect the change in burden associated with PER-003 and moving manhours from 725A into 725Y.

² Order No. 693 Mandatory Reliability Standards for the Bulk-Power System—approved March 16, 2007.

The Commission estimates the additional annual reporting burden and cost as follows:

| Number and type of respondents ³ | Annual number of responses per respondent | Total number of responses | Avg. burden & cost per response ⁴ | Total annual burden hours & total annual cost ($) | Cost per respondent ($)
| (1) | (2) | (1) * (2) = (3) | (4) | (3) * (4) = (5) | (5) ÷ (1)
FERC-725Y in Docket No. IC24-16-000 Reliability Standard PER-003-2
Annual Review of Credentials | 12 (RC) 98 (BA) | 1 1 | 12 98 | 60 hrs. $4,637.40 60 hrs. $4,637.40 | 720 hrs. $55,648.80 5,880 hrs. $454,465.20 | $4,637.40 4,637.40
| 165 (TOP) | 1 | 165 | 60 hrs. $4,637.40 | 9.900 hrs. $765,171.00 | 4,637.40
Record Retention | (RC, BA, TOP) 275 | 1 | 275 | 60 hrs. $2,735.40 | 16,500 hrs. $752,235.00 | 2,735.40
Total |  |  |  |  | 33,000 hrs. $2,027,520.00 |
FERC-725Y (Reliability Standard PER-005-2)
Annual Evaluation, Update of Training Program | 12 (RC) 98 (BA) | 1 1 | 12 98 | 14 hrs.; $1,082.06 14 hrs.; $1,082.06 | 168 hrs.; $12,984.72 1,372 hrs.; $106,041.88 | 1,082.06 1,082.06
| 165 (TOP) | 1 | 165 | 14 hrs.; $1,082.06 | 2,310 hrs.; $178,539.90 | 1,082.06
| 324 (TO) | 1 | 324 | 14 hrs.; $1,082.06 | 4,536 hrs.; $350,587.44 | 1,082.06
| 1028 (GOP) | 1 | 1028 | 14 hrs.; $1,082.06 | 14,392 hrs.; $1,112,357.68 | 1,082.06
Annual Evaluation and Update of Training Program | (RC, BA, TOP, TO, GOP) 1627 | 1 | 1627 | 8 hrs.; $364.72 | 13,016 hrs.; $593,399.44 | 364.72
Retention of Records | (RC, BA, TOP, TO, GOP) 1627 | 1 | 1627 | 10 hrs.; $455.90 | 16,270 hrs.; $741,749.30 | 455.90
Total |  |  |  |  | 68,892 hrs.; $3,095,660.36 |
FERC-725Y (Reliability Standard PER-006-1)
GOP; Reporting, Recordkeeping Req | 1028 | 1 | 1028 | 14 hrs.; $1,082.06 | 14,392 hrs.; $1,112,357.68 | 1,082.06
GOP; Reporting Req. R1 | 1028 | 1 | 1028 | 5 hrs.; $386.45 | 5,140 hrs.; $397,270.60 | 386.45
GOP; Recordkeeping Req | ⁵ 1028 | 1 | 1028 | 10 hrs.; $455.90 | 10,280 hrs.; $468,665.20 | 455.90
Total |  |  |  |  | 29,812 hrs.; $1,978,293.48 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ For PER-003-2, PER-005-2 and PER-006-1: RC = Reliability Coordinator; BA = Balancing Authority; TOP = Transmission Operator; TO = Transmission Owner; GOP = Generator Operator. The NERC compliance registry table April 16, 2024, was used to perform analysis.

⁴ The estimated hourly cost (salary plus benefits) is a combination based on the Bureau of Labor Statistics (BLS), as of 2023. The estimates for cost per response are loaded hourly wage figure (includes benefits) based on two occupational categories for 2023 found on the Bureau of Labor Statistics website (http://www.bls.gov/oes/current/naics2_22.htm):

• Electrical Engineer (Occupation Code: 17-2071): $77.29 (to calculate the reporting requirements).

• Office and Administrative Support (Occupation Code: 43-0000): $45.59 (to calculate the recordkeeping requirements).

⁵ The number of US unique GOPs is 1028 taken from the NERC compliance registry information of April 16, 2024.

Dated: July 19, 2024.
Debbie-Anne A. Reese,
Acting Secretary.

[FR Doc. 2024-16386 Filed 7-24-24; 8:45 am]

BILLING CODE 6717-01-P